SOCIAL SECURITY ADMINISTRATION

[Docket No. SSA 2020-0031]

Privacy Act of 1974; Matching Program

AGENCY: Social Security Administration (SSA).

ACTION: Notice of a new matching program.

SUMMARY: In accordance with the provisions of the Privacy Act, as amended, this notice announces a new matching program with the Centers for Medciare & Medicaid Services (CMS) in which CMS will disclose to the Security Administration (SSA) certain individuals' admission and discharge information for care received in a nursing care facility. Nursing care facility, for purposes of this agreement, means certain facilities referenced in CMS' Long Term Care-Minimum Data Set System Number 09-70-0528 (LTC/MDS), as defined below. SSA will use this information to administer the Supplemental Security Income (SSI) program efficiently and to identify Special Veterans' Benefits (SVB) beneficiaries who are no longer residing outside of the United States.

DATES: The deadline to submit comments on the proposed matching program is May 24, 2021. The matching program will be applicable on June, 20, 2021, or once a minimum of 30 days after publication of this notice has elapsed, whichever is later. The matching program will be in effect for a period of 18 months.

ADDRESSES: You may submit comments by any one of three methods—internet, fax, or mail. Do not submit the same comments multiple times or by more than one method. Regardless of which method you choose, please state that your comments refer to Docket No. SSA-2020-0031 so that we may associate your comments with the correct regulation. CAUTION: You should be careful to include in your comments only information that you wish to make publicly available. We strongly urge you not to include in your comments any personal information, such as Social Security numbers or medical information.

1. internet: We strongly recommend that you submit your comments via the internet. Please visit the Federal eRulemaking portal at http://www.regulations.gov. Use the Search function to find docket number SSA-2020-0031 and then submit your comments. The system will issue you a tracking number to confirm your submission. You will not be able to view your comment immediately because we must post each submission manually. It may take up to a week for your comments to be viewable.

2. Fax: Fax comments to (410) 966-0869.

3. Mail: Matthew Ramsey, Executive Director, Office of Privacy and Disclosure, Office of the General Counsel, Social Security Administration, G-401 WHR, 6401 Security Boulevard, Baltimore, MD 21235-6401, or emailing Matthew.Ramsey@ssa.gov. Comments are also available for public viewing on the Federal eRulemaking portal at http://www.regulations.gov or in person, during regular business hours, by arranging with the contact person identified below.

FOR FURTHER INFORMATION CONTACT: Interested parties may submit general questions about the matching program to Andrea Huseth, Division Director, Office of Privacy and Disclosure, Office of the General Counsel, Social Security Administration, G-401 WHR, 6401 Security Boulevard, Baltimore MD 21235-6401, at telephone: (410) 966-5855, or send an email to Andrea.Huseth@ssa.gov.

SUPPLEMENTARY INFORMATION: None.

Matthew Ramsey,
Executive Director, Office of Privacy and Disclosure, Office of the General Counsel.

Participating Agencies

SSA and CMS.

Authority for Conducting the Matching Program

The legal authority for the SSI portion of the matching program is sections 1611(e)(1) and 1631(f) of the Social Security Act (Act) (42 U.S.C. 1382(e)(1) and 1383(f)), and 20 CFR 416.211. The legal authorities for the SVB portion of the matching program are sections 801 and 806(a) and (b) of the Act (42 U.S.C. 1001 and 1006(a) and (b)). Legal authority for CMS' disclosures under this matching program is section 1631(f) of the Act (42 U.S.C. 1383(f)) and 45 CFR 164.512(a) Standard: Uses and disclosures required by law (Health Insurance Portability and Accountability Act of 1996 (HIPAA) Privacy Rule). The legal authority for the agencies to enter into this interagency transaction is the Economy Act, 31 U.S.C. 1535.

Purpose(s)

This matching program establishes the conditions under which CMS will disclose to SSA certain individuals' admission and discharge information for care received in a nursing care facility. Nursing care facility, for purposes of this agreement, means certain facilities referenced in CMS' Long Term Care-Minimum Data Set System Number 09-70-0528 (LTC/MDS). SSA will use this information to administer the SSI program efficiently and to identify SVB beneficiaries who are no longer residing outside of the United States.

Categories of Individuals

The category of indivduals involved in this matching agreement are invidudals who have been admitted or discharged for care received in a nursing care facility.

Categories of Records

SSA will provide CMS with a monthly finder file, which will be extracted from SSA's SSI and SVB's records. The finder file will consist of data elements related to an individual's SSI/SVB eligibility. CMS will match the SSA finder file against data maintained pursuant to the LTC/MDS system of records (SOR).

System(s) of Records

SSA will provide CMS with a finder file on a monthly basis, which will be extracted from Supplemental Security Income Record and Special Veterans Benefits, SOR 60-0103, last fully published on January 11, 2006 (71 FR 1830), as amended on December 10, 2007 (72 FR 69723), July 3, 2018 (83 FR 31250-31251), and November 1, 2018 (83 FR 54969).

CMS will match the SSA finder file against data maintained pursuant to the Long Term Care-Minimum Data Set (LTC/MDS) (System Number 09 70 0528) SOR, last fully published on March 19, 2007 (72 FR 12801), amended on April 23, 2013 (78 FR 23938), May 29, 2013 (78 FR 32257), and February 14, 2018 (83 FR 6591); and submit its response file to SSA.

[FR Doc. 2021-08352 Filed 4-21-21; 8:45 am]

BILLING CODE 4191-02-P